FEDERAL DEPOSIT INSURANCE CORPORATION

Agency Information Collection Activities: Submission for OMB Review; Comment Request (3064-0015)

AGENCY: Federal Deposit Insurance Corporation (FDIC).

ACTION: 30-Day Notice and request for comment.

SUMMARY: The Federal Deposit Insurance Corporation (FDIC) will submit the following information collection request to the Office of Management and Budget (OMB) for review and approval in accordance with the Paperwork Reduction Act of 1995. The proposed information collection was previously published in the Federal Register on May 31, 2017, allowing for a 60-day comment period.

DATES: Comments are encouraged and will be accepted for an additional 30 days until September 18, 2017.

ADDRESSES: Interested parties are invited to submit written comments to the FDIC by any of the following methods:

• http://www.FDIC.gov/regulations/laws/federal/notices.html.

• Email: comments@fdic.gov. Please include the name and OMB control number of the relevant information collection in the subject line of the message.

• Mail: Manny Cabeza, Counsel, Room MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. Written comments and/or suggestions can also be directed to the Office of Management and Budget, Office of Information and Regulatory Affairs, attention FDIC Desk Officer, New Executive Office Building, Washington DC 20503 or sent to OIRA_submissions@omb.eop.gov.

FURTHER INFORMATION CONTACT: If you have additional comments, particularly with respect to the estimated public burden or associated response time, have suggestions, need a copy of any proposed information collection instrument and instructions, or desire any other additional information, please contact Manny Cabeza, Counsel, FDIC Legal Division either by mail at Room MB-3007, Federal Deposit Insurance Corporation, 550 17th Street NW., Washington, DC 20429; by email at mcabeza@fdic.gov; or by telephone at (202) 898-3767.

SUPPLEMENTARY INFORMATION: Written comments and suggestions from the public and affected agencies concerning the proposed collection of information are encouraged. All comments received will become a matter of public record. Your comments should address one or more of the following four points:

—Evaluate whether the proposed collection of information is necessary for the proper performance of the functions of the agency, including whether the information has practical utility;

—Evaluate the accuracy of the agency's estimate of the burden of the proposed information collection, including the validity of the methodology and assumptions used;

—Evaluate whether and if so, how, the quality, utility, and clarity of the information to be collected can be enhanced; and

—Ways to minimize the burden of the information collection on respondents, including through the use of automated collection techniques or other forms of information technology.

Overview of the Information Collection Request

1. Title: Interagency Bank Merger Act Application.

OMB Number: 3064-0015.

Type: Extension, without change, of a currently approved collection.

Form: Interagency Bank Merger Act Application.

Affected Public: Individuals or households; business or other for profit; Insured state nonmember banks and state savings associations.

Estimated Burden:

| Number of annual respondents | Frequency of response | Hours per response | Total estimated annual hours
Affiliated | 134 | On Occasion | 18 | 2,412
Nonaffiliated | 162 | On Occasion | 30 | 4,860
Total | 296 |  |  | 7,272

General Description of Collection: The Interagency Bank Merger Act Application form is used by the Federal Deposit Insurance Corporation, the Board of Governors of the Federal Reserve System, and the Comptroller of the Currency for applications under section 18(c) of the Federal Deposit Insurance Act (FDIA), as amended (12 U.S.C. 1828(c)). The application is used for a merger, consolidation, or other combining transaction between nonaffiliated parties as well as to effect a corporate reorganization between affiliated parties (affiliate transaction). There is a different level of burden for each of the two types of merger transactions, nonaffiliated and affiliated. An affiliate transaction refers to a merger, consolidation, other combination, or transfer of any deposit liabilities, between depository institutions that are controlled by the same holding company. It includes a business combination between a depository institution and an affiliated interim institution. Applicants proposing affiliate transactions are required to provide less information than applicants involved in the merger of two unaffiliated entities. If depository institutions are not controlled by the same holding company, the merger transaction is considered nonaffiliated. There is no change in the method or substance of the collection. The estimated time to complete the application remains the same. The change in estimated annual burden is due solely to economic fluctuations that have resulted in an increase in the number of applications received annually.

Dated at Washington, DC, this 15th day of August, 2017.
Federal Deposit Insurance Corporation.
Robert E. Feldman,
Executive Secretary.

[FR Doc. 2017-17465 Filed 8-17-17; 8:45 am]

BILLING CODE 6714-01-P